DEPARTMENT OF COMMERCE

International Trade Administration

[A-489-846]

Certain Steel Nails From the Republic of Turkey: Final Affirmative Determination of Sales at Less Than Fair Value

AGENCY: Enforcement and Compliance, International Trade Administration, Department of Commerce.

SUMMARY: The U.S. Department of Commerce (Commerce) determines that certain steel nails (nails) from the Republic of Turkey (Turkey) are being, or are likely to be, sold in the United States at less than fair value (LTFV). The period of investigation (POI) is October 1, 2020, through September 30, 2021.

DATES: Applicable December 23, 2022.

FOR FURTHER INFORMATION CONTACT: David Crespo or Amaris Wade, AD/CVD Operations, Office II, Enforcement and Compliance, International Trade Administration, U.S. Department of Commerce, 1401 Constitution Avenue NW, Washington, DC 20230; telephone: (202) 482-3693 or (202) 482-6334, respectively.

SUPPLEMENTARY INFORMATION:

Background

On August 4, 2022, Commerce published in the Federal Register the Preliminary Determination of sales at LTFV of nails from Turkey.¹ We invited interested parties to comment on the Preliminary Determination. We received one case brief from Sertel Vida Metal A.S. (Sertel Vida).² We received no other case or rebuttal briefs. A summary of the events that occurred since Commerce published the Preliminary Determination, as well as a full discussion of the issues raised by Sertel Vida for the final determination, may be found in the Issues and Decision Memorandum.³

¹ See Certain Steel Nails from the Republic of Turkey: Preliminary Affirmative Determination of Sales at Less Than Fair Value, 87 FR 47699 (August 4, 2022) (Preliminary Determination), and accompanying Preliminary Decision Memorandum.

² See Sertel Vida's Letter, “Sertel Case Brief,” dated November 14, 2022.

³ See Memorandum, “Issues and Decision Memorandum for the Final Determination in the Less-Than-Fair Value Investigation of Certain Steel Nails from the Republic of Turkey,” dated concurrently with, and hereby adopted by, this notice.

Scope Comments

On July 5, 2022, we issued the Preliminary Scope Decision Memorandum.⁴ The scope case briefs were due on July 19, 2022.⁵ We did not receive any scope case briefs from interested parties. Therefore, Commerce has not made any changes to the scope of this investigation since the Preliminary Determination.

⁴ See Memorandum, “Antidumping Duty Investigations of Certain Steel Nails from India, Sri Lanka, Thailand, and Turkey and Countervailing Duty Investigations of Certain Steel Nails from India, Oman, Sri Lanka, Thailand, and Turkey: Preliminary Scope Decision Memorandum,” dated July 5, 2022 (Preliminary Scope Decision Memorandum).

⁵ Id. at 4.

Scope of the Investigation

The products covered by this investigation are nails from Turkey. For a full description of the scope of this investigation, see Appendix I.

Analysis of Comments Received

The sole issue raised in comments that were submitted by parties in this investigation is addressed in the Issues and Decision Memorandum.⁶ A list of the issues addressed in the Issues and Decision Memorandum is attached to this notice at Appendix II. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

⁶ See the Issues and Decision Memorandum.

Verification

As provided in section 782(i) of the Tariff Act of 1930, as amended (the Act), in September 2022, we verified the sales and cost information submitted by Aslanbas Civi Tel Ve Celik Hasir San A.S (Aslanbas), for use in our final determination. We used standard verification procedures, including an examination of relevant accounting and production records, and original source documents provided by Aslanbas.

In addition, as provided in section 782(i) of the Act, in September and October 2022, we conducted verification of the cost and sales information submitted by Sertel Vida using standard verification procedures. However, as explained in the Issues and Decision Memorandum, Commerce was unable to verify the accuracy of Sertel Vida's reporting with respect to its sales data. As a consequence, we find that Sertel Vida's reported sales data are unverified, and, thus, cannot serve as a reliable basis for calculating an accurate margin for Sertel Vida in this investigation. Specifically, because we encountered so many errors within Sertel Vida's reported sales data at verification, and the submitted sales information is integral to the proper evaluation of its margin calculation, we find that all of the sales information submitted by Sertel Vida is unverified. For further discussion, see the Issues and Decision Memorandum.

Changes from the Preliminary Determination

Based on our analysis of the comment received and our findings at verification, we made certain changes to the margin calculations for Aslanbas and Sertel Vida. For a discussion of these changes, see the Issues and Decision Memorandum. Additionally, because the U.S. International Trade Commission (ITC) found that the United States is not materially injured or threatened with material injury by reason of imports of steel nails from India, Oman, and Turkey, the companion countervailing duty investigation has been terminated.⁷ Thus, we will not adjust the final estimated weighted-average dumping margin for Aslanbas or Sertel Vida for export subsidies to determine each company's cash deposit rate.

⁷ See ITC's Letter, Notification Regarding the Countervailing Duty Investigation, dated October 6, 2022.

Adverse Facts Available

Due to our inability to verify Sertel Vida's submitted data, we are unable to use its data to calculate an accurate dumping margin for the company. We also find that Sertel Vida did not act to the best of its ability to comply with our requests for information. Therefore, for this final determination we find it appropriate to assign Sertel Vida an estimated weighted-average dumping margin based on facts available with an adverse inference (AFA), in accordance with sections 776(a) and (b) of the Act and 19 CFR 351.308. For further discussion, see the Issues and Decision Memorandum.

Pursuant to section 776(b) of the Act, we examined the dumping margins alleged in the petition, the weighted-average dumping margins calculated in this final determination, and other information of the record of this investigation to determine an appropriate estimated weighted-average dumping margin for Sertel Vida based on AFA. We are assigning the highest transaction-specific dumping margin calculated for Aslanbas as the estimated weighted-average dumping margin to Sertel Vida based on AFA. Because we are relying on information obtained in the course of this investigation, we do not need to corroborate this margin pursuant section 776(c) of the Act. For further discussion, see the Issues and Decision Memorandum at “Use of Adverse Facts Available.”

All-Others Rate

Section 735(c)(5)(A) of the Act provides that the estimated all-others rate shall be an amount equal to the weighted-average of the estimated weighted-average dumping margins established for exporters and producers individually investigated excluding any zero or de minimis margins, and margins determined entirely under section 776 of the Act. Aslanbas is the only respondent for which Commerce calculated a company-specific estimated weighted-average dumping margin that is above de minimis and not based entirely on AFA. Therefore, for purposes of determining the “all-others” rate and pursuant to section 735(c)(5)(A) of the Act, we are using the estimated weighted-average dumping margin calculated for Aslanbas, as referenced in the “Final Determination” section, below.

Final Determination

The final estimated weighted-average dumping margins are as follows:

Exporter or producer | Weighted- average dumping margin (percent)
Aslanbas Civi Tel Ve Celik Hasir San A.S. | 27.62
Sertel Vida Metal A.S. | 118.20
All Others | 27.62

Continuation of Suspension of Liquidation

In accordance with section 735(c)(1)(B) of the Act, Commerce will instruct U.S. Customs and Border Protection (CBP) to continue to suspend liquidation of all appropriate entries of nails from Turkey, as described in Appendix I to this notice, entered, or withdrawn from warehouse, for consumption on or after August 4, 2022, the date of publication of Preliminary Determination in the Federal Register.

Pursuant to section 735(c)(1)(B)(ii) of the Act and 19 CFR 351.210(d), where appropriate, Commerce will instruct CBP to require a cash deposit for estimated antidumping duties equal to the estimated weighted-average dumping margin, as follows: (1) the cash deposit rate for the companies listed above will be equal to the company-specific estimated weighted-average dumping margins determined in this preliminary determination; (2) if the exporter is not a respondent identified above, but the producer is, then the cash deposit rate will be equal to the company-specific estimated weighted-average dumping margin established for that producer of the subject merchandise; and (3) the cash deposit rate for all other producers and exporters will be equal to the all-others estimated weighted-average dumping margin.

Commerce normally adjusts cash deposits for estimated antidumping duties by the amount of export subsidies countervailed in a companion countervailing duty (CVD) proceeding. Accordingly, in a LTFV investigation where Commerce has made an affirmative determination for countervailable export subsidies, Commerce has offset the estimated weighted-average dumping margin by the appropriate countervailed export subsidy rate. Here, because the ITC made a negative determination in the companion CVD proceeding, we are no longer adjusting our cash deposit rate to account for export subsidies in this final determination.

These suspension of liquidation instructions will remain in effect until further notice.

Disclosure

Commerce intends to disclose under administrative protective order (APO) its calculations and related analysis to interested parties in this final determination within five days of any public announcement or, if there is no public announcement, within five days of the date of publication of this notice in the Federal Register in accordance with 19 CFR 351.224(b).

ITC Notification

In accordance with section 735(d) of the Act, we will notify the ITC of the final affirmative determination of sales at LTFV. Because Commerce's final determination is affirmative, in accordance with section 735(b)(2) of the Act, the ITC will make its final determination as to whether the domestic industry in the United States is materially injured, or threatened with material injury, by reason of imports or sales (or the likelihood of sales) for importation of nails from Turkey no later than 45 days after this final determination. If the ITC determines that such injury does not exist, this proceeding will be terminated, and all cash deposits posted will be refunded and suspension of liquidation will be lifted. If the ITC determines that such injury does exist, Commerce will issue an antidumping duty order directing CBP to assess, upon further instruction by Commerce, antidumping duties on all imports of the subject merchandise entered, or withdrawn from warehouse, for consumption on or after the effective date of the suspension of liquidation, as discussed above in the “Continuation of Suspension of Liquidation” section.

Administrative Protective Order

This notice will serve as a final reminder to the parties subject to an APO of their responsibility concerning the disposition of proprietary information disclosed under APO in accordance with 19 CFR 351.305(a)(3). Timely written notification of return or destruction of APO materials or conversion to judicial protective order is hereby requested. Failure to comply with the regulations and the terms of an APO is a sanctionable violation.

Notification to Interested Parties

This determination is issued and published in accordance with sections 735(d) and 777(i)(1) of the Act, and 19 CFR 351.210(c).

Dated: December 19, 2022.
Lisa W. Wang,
Assistant Secretary for Enforcement and Compliance.

Appendix I

Scope of the Investigation

The merchandise covered by this investigation is certain steel nails having a nominal shaft or shank length not exceeding 12 inches. Certain steel nails include, but are not limited to, nails made from round wire and nails that are cut from flat-rolled steel or long-rolled flat steel bars. Certain steel nails may be of one piece construction or constructed of two or more pieces. Examples of nails constructed of two or more pieces include, but are not limited to, anchors comprised of an anchor body made of zinc or nylon and a steel pin or a steel nail; crimp drive anchors; split-drive anchors, and strike pin anchors. Also included in the scope are anchors of one piece construction.

Certain steel nails may be produced from any type of steel, and may have any type of surface finish, head type, shank, point type and shaft diameter. Finishes include, but are not limited to, coating in vinyl, zinc (galvanized, including but not limited to electroplating or hot dipping one or more times), phosphate, cement, and paint. Certain steel nails may have one or more surface finishes. Head styles include, but are not limited to, flat, projection, cupped, oval, brad, headless, double, countersunk, and sinker. Shank or shaft styles include, but are not limited to, smooth, barbed, screw threaded, ring shank and fluted.

Screw-threaded nails subject to this proceeding are driven using direct force and not by turning the nail using a tool that engages with the head. Point styles include, but are not limited to, diamond, needle, chisel and blunt or no point. Certain steel nails may be sold in bulk, or they may be collated in any manner using any material.

Excluded from the scope are certain steel nails packaged in combination with one or more non-subject articles, if the total number of nails of all types, in aggregate regardless of size, is less than 25. If packaged in combination with one or more non-subject articles, certain steel nails remain subject merchandise if the total number of nails of all types, in aggregate regardless of size, is equal to or greater than 25, unless otherwise excluded based on the other exclusions below.

Also excluded from the scope are certain steel nails with a nominal shaft or shank length of one inch or less that are a component of an unassembled article, where the total number of nails is sixty (60) or less, and the imported unassembled article falls into one of the following eight groupings: (1) Builders' joinery and carpentry of wood that are classifiable as windows, French-windows and their frames; (2) builders' joinery and carpentry of wood that are classifiable as doors and their frames and thresholds; (3) swivel seats with variable height adjustment; (4) seats that are convertible into beds (with the exception of those classifiable as garden seats or camping equipment); (5) seats of cane, osier, bamboo or similar materials; (6) other seats with wooden frames (with the exception of seats of a kind used for aircraft or motor vehicles); (7) furniture (other than seats) of wood (with the exception of (i) medical, surgical, dental or veterinary furniture; and (ii) barbers' chairs and similar chairs, having rotating as well as both reclining and elevating movements); or (8) furniture (other than seats) of materials other than wood, metal, or plastics (e.g., furniture of cane, osier, bamboo or similar materials). The aforementioned imported unassembled articles are currently classified under the following Harmonized Tariff Schedule of the United States (HTSUS) subheadings: 4418.10, 4418.20, 9401.30, 9401.40, 9401.51, 9401.59, 9401.61, 9401.69, 9403.30, 9403.40, 9403.50, 9403.60, 9403.81 or 9403.89.

Also excluded from the scope of this investigation are nails suitable for use in powder-actuated hand tools, whether or not threaded, which are currently classified under HTSUS subheadings 7317.00.2000 and 7317.00.3000.

Also excluded from the scope of this investigation are nails suitable for use in gas-actuated hand tools. These nails have a case hardness greater than or equal to 50 on the Rockwell Hardness C scale (HRC), a carbon content greater than or equal to 0.5 percent, a round head, a secondary reduced-diameter raised head section, a centered shank, and a smooth symmetrical point.

Also excluded from the scope of this investigation are corrugated nails. A corrugated nail is made up of a small strip of corrugated steel with sharp points on one side.

Also excluded from the scope of this investigation are thumb tacks, which are currently classified under HTSUS subheading 7317.00.1000.

Also excluded from the scope are decorative or upholstery tacks.

Certain steel nails subject to this investigation are currently classified under HTSUS subheadings 7317.00.5501, 7317.00.5502, 7317.00.5503, 7317.00.5505, 7317.00.5507, 7317.00.5508, 7317.00.5511, 7317.00.5518, 7317.00.5519, 7317.00.5520, 7317.00.5530, 7317.00.5540, 7317.00.5550, 7317.00.5560, 7317.00.5570, 7317.00.5580, 7317.00.5590, 7317.00.6530, 7317.00.6560, and 7317.00.7500. Certain steel nails subject to this investigation also may be classified under HTSUS subheadings 7318.15.5090, 7907.00.6000, 8206.00.0000, or other HTSUS subheadings. While the HTSUS subheadings are provided for convenience and customs purposes, the written description of the scope of this investigation is dispositive.

Appendix II

List of Topics Discussed in the Issues and Decision Memorandum

I. Summary

II. Background

III. Use of Facts Available with an Adverse Inference

IV. Changes from the Preliminary Determination

V. Discussion of the Issue

Comment: Sertel Vida's Date of Sale

VI. Recommendation

[FR Doc. 2022-28018 Filed 12-22-22; 8:45 am]

BILLING CODE 3510-DS-P